DEPARTMENT OF THE INTERIOR

Minerals Management Service

Environmental Documents Prepared for Proposed Oil and Gas Operations on the Gulf of Mexico Outer Continental Shelf (OCS)

AGENCY: Minerals Management Service, Interior.

ACTION: Notice of the availability of environmental documents. Prepared for OCS Mineral Proposals on the Gulf of Mexico OCS.

SUMMARY: The Minerals Management Service (MMS), in accordance with Federal Regulations (40 CFR 1501.4 and 1506.6) that implement the National Environmental Policy Act (NEPA), announces the availability of NEPA-related Site-Specific Environmental Assessments (SEA's) and Findings of No Significant Impact (FONSI's), prepared by the MMS for the following oil and gas activities proposed on the Gulf of Mexico OCS. This listing includes all proposals for which the FONSI's were prepared by the Gulf of Mexico OCS Region in the period subsequent to publication of the preceding notice.

Activity/Operator | Location | Date
Kerr-McGee Oil and Gas Corporation, Pipeline Activity, SEA Nos. P-12504 and P-12505 (G-14942 and G-14200) | Garden Banks Area, Block 184; High Island Area, East Addition, South Extension, Block A-371; Leases OCS-G 14942 and 14200; 110 miles off the Texas Cost | 06/28/00
Fugro GeoServices, Inc., G&G Activity, SEA No. M00-004 | 12-94 miles off the Florida Coast | 05/24/00
BP Amoco Corporation, Development Activity, SEA No. R-3382 | Viosca Knoll, Block 989, Lease OCS-G 6898, 43 miles off the Louisiana Coast | 05/16/99
Apache Corporation, Exploration Activity, SEA No. R-3439 | South Pass Area, Block 62, Lease OCS-G 1294, 18 miles off the Louisiana Coast | 06/26/00
Shell Deepwater Development Inc., Development Activity, SEA No. N-6570 | Green Canyon Area, Block 158 and 202, Leases OCS-G 7995 and 7998, 89 miles off the Louisiana Coast | 05/09/00
Chevron U.S.A. Inc., Development Activity, SEA No. N-6678; Pipeline Activity, SEA Nos. P-12417 (G-21486), P-12441, P-12442, P-12443, and P-12444 | Viosca Knoll Area, Blocks 251, 207, 163, 119, 75, and 31; Mobile Area Blocks 999, 995, 911, 867, and 868; Leases OCS-G 10930, 13983, 13981, 13982, 1.6 to 30 miles south of Mobile County, Alabama | 05/01/00
Forest Oil Corporation, Structure Removal Activity, SEA No. ES/SR 00-022 | Vermilion Area, Block 101, Lease OCS-G 10658, 92 miles southwest of Vermilion Parish, Louisiana | 04/19/00
EOG Resources, Inc., Structure Removal Activity, SEA No. ES/SR 00-024A | West Cameron Area, Block 491, Lease OCS-G 9425, 87 miles south of Cameron Parish, Louisiana | 07/06/00
Apache Corporation, Structure Removal Activity, SEA No. ER/SR 00-042A | Vermilion Area, Block 257, Lease OCS-G 8671, 70 miles south of Vermilion Parish, Louisiana | 04/27/00
TDC Energy Corporation, Structure Removal Activity, SEA No. ES/SR 00-043 | Viosca Knoll Area, Block 155, Lease OCS-G 13047, 15 miles east of St. Bernard Parish, Louisiana | 04/17/00
Apache Corporation, Structure Removal Activity, SEA Nos. ES/SR 00-044 through 00-047 | South Timbalier Area, Blocks 143 and 144, Leases OCS-G 6767 and 12965, 32 miles south of Terrebonne Parish, Louisiana | 04/19/00
CNG Producing Company, Structure Removal Activity, SEA No. ES/SR 00-048 | Ship Shoal Area, Block 247, Lease OCS-G 1028, 48 miles south of Terrebonne Parish, Louisiana | 04/26/00
Apache Corporation, Structure Removal Activity, SEA No. ES/SR 00-049 | Main Pass Area, Block 129, Lease OCS-G 4010, 17 miles each of Plaquemines Parish, Louisiana | 05/02/00
Chevron U.S.A. Inc., Structure Removal Activity, SEA No. ES/SR 00-050 | Bay Marchand Area, Block 2, Lease OCS-G 0369, 5 miles south of Lafourche Parish, Louisiana | 05/02/00
Shell Offshore Inc., Structure Removal Activity, SEA No. ES/SR 00-051 | Vermilion Area, Block 156, Lease OCS-G 12866, 42 miles south of Vermilion Parish, Louisiana | 05/08/00
Samedan Oil Corporation, Structure Removal Activity, SEA Nos. ES/SR 00-052 and 00-053 | South Marsh Island Area, Block 232, Lease OCS-G 8687, 15 miles south of Vermilion Parish, Louisiana | 05/31/00
Union Oil Company of California, Structure Removal Activity, SEA No. ES/SR 00-054 | Vermilion Area, Block 75, Lease OCS-G 12863, 18 miles south of Vermilion Parish, Louisiana | 05/23/00
Newfield Exploration Company, Structure Removal Activity, SEA No. ES/SR 00-055 | West Cameron Area, Block 118, Lease OCS-G 0757, 15 miles south of Cameron Parish, Louisiana | 05/23/00
Santa Fe Snyder Corporation, Structure Removal Activity, SEA Nos. ES/SR 00-056 and 00-057 | South Marsh Island Area, Blocks 236 and 242, Leases OCS-G 4437 and 0310, 12 miles south of Iberia Parish, Louisiana | 05/18/00
Newfield Exploration Company, Structure Removal Activity, SEA No. 00-058 | Eugene Island Area, Block 199, Lease OCS-G 0437, 48 miles south of St. Mary Parish, Louisiana | 05/31/00
Apache Corporation, Structure Removal Activity, SEA No. ES/SR 00-059 | Eugene Island Area, Block 99, Lease OCS-G 0795, 21 miles southwest of Terrebonne Parish, Louisiana | 05/31/00
Santa Fe Snyder Corporation, Structure Removal Activity, SEA Nos. ES/SR 00-060 through 00-062 | West Cameron Area, Blocks 95 and 285, Leases OCS-G 4750 and 10566, 15 to 67 miles south of Cameron Parish, Louisiana | 05/31/00
Coastal Oil & Gas Corporation, Structure Removal Activity, SEA No. ES/SR 00-063 | High Island Area, Block A-280, Lease OCS-G 3313, 95 miles south of Cameron Parish, Louisiana | 06/01/00
Newfield Exploration Company, Structure Removal Activity, SEA Nos. ES/SR 00-064 and 00-065 | Eugene Island Area, Block 199, Lease OCS-G 0437, 53 miles south of New Iberia Parish, Louisiana | 06/01/00
EOG Resources, Inc., Structure Removal Activity, SEA No. ES/SR 00-066 | West Cameron Area, Block 405, Lease OCS-G 3280, 65 miles south of Cameron Parish, Louisiana | 06/13/00
Murphy Exploration & Production Company, Structure Removal Activity, SEA Nos. ES/SR 00-067 through 00-069 | Ship Shoal Area, Block 120, Lease OCS-G 5545, 18 miles south of Terrerbonne Parish, Louisiana | 06/12/00
Murphy Exploration & Production Company, Structure Removal Activity, SEA Nos. ES/SR 00-070 through 00-078 | Ship Shoal Area, Block 135, Lease 3164, 18 miles south of Terrebonne Parish, Louisiana | 06/12/00
Murphy Exploration & Production Company, Structure Removal Activity, SEA Nos. ES/SR 00-079 through 00-093 | Ship Shoal Area, Block 134, Lease OCS-G 5201, 20 miles south of Terrebonne Parish, Louisiana | 06/12/00
OXY USA, Inc., Structure Removal Activity, SEA Nos. ES/SR 00-094 and 00-0905 | Matagorda Island Area, Block 527, Lease OCS-G 3932, 11 miles east of Calhoun County, Texas | 06/13/00
Pogo Producing Company, Structure Removal Activity, SEA No. ES/SR 00-096 | West Cameron Area, Block 253, Lease OCS-G 3500, 46 miles south of Cameron Parish, Louisiana | 06/13/00
Cockrell Oil Corporation, Structure Removal Activity, SEA No. ES/SR 00-097 | Eugene Island Area, Block 24, Lease OCS-G 2893, 9 miles south of Iberia Parish, Louisiana | 06/22/00
Pogo Producing Company, Structure Removal Activity, SEA No. ES/SR 00-098 | West Cameron Area, Block 252, Lease OCS-G 5186, 48 miles south of Cameron Parish, Louisiana | 06/27/00
Global Production Services, Structure Removal Activity, SEA No. ES/SR 00-099 and 00-100 | High Island Area, Block A-285, Lease OCS-G 03485, 90 miles south of Jefferson County, Texas | 06/30/00
British-Borneo Exploration, Inc., Structure Removal Activity, SEA No. ES/SR 00-101 | East Cameron Area, Block 236, Lease OCS-G 14373, 69 miles south of Cameron Parish, Louisiana | 07/06/00

Persons interested in reviewing environmental documents for the proposals listed above or obtaining information about EA's and FONSI's prepared for activities on the Gulf of Mexico OCS are encouraged to contact the MMS office in the Gulf of Mexico OCS Region.

FOR FURTHER INFORMATION CONTACT: Public Information Unit, Information Services Section, Gulf of Mexico OCS Region, Minerals Management Service, 1201 Elmwood Park Boulevard, New Orleans, Louisiana 70123-2394, Telephone (504) 736-2519.

SUPPLEMENTARY INFORMATION: The MMS prepares EA's and FONSI's for proposals which relate to exploration for and the development/production of oil and gas resources on the Gulf of Mexico OCS. The EA's examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where the MMS finds that approval will not result in significant effects on the quality of the human environment. The FONSI briefly presents the basis for that finding and includes a summary or copy of the EA.

This notice constitutes the public notice of availability of environmental documents required under the NEPA Regulations.

Dated: July 28, 2000.
Chris C. Oynes,
Regional Director, Gulf of Mexico OCS Region.

[FR Doc. 00-19615 Filed 8-2-00; 8:45 am]

BILLING CODE 4310-MR-M